STATE JUSTICE INSTITUTE

SJI Board of Directors Meeting, Notice

AGENCY: State Justice Institute.

ACTION: Notice of meeting.

SUMMARY: The SJI Board of Directors will be meeting on Monday, September 10, 2018 at 1:30 p.m. The meeting will be held at the Nebraska Supreme Court, State Capitol, Law Library Reading Room, 1445 K Street, Lincoln, Nebraska. The purpose of this meeting is to consider grant applications for the 4th quarter of FY 2018, and other business. All portions of this meeting are open to the public.

ADDRESSES: Nebraska Supreme Court, State Capitol, Law Library Reading Room, 1445 K Street, Lincoln, Nebraska, 68509.

FOR FURTHER INFORMATION CONTACT: Jonathan Mattiello, Executive Director, State Justice Institute, 11951 Freedom Drive, Suite 1020, Reston, VA 20190, 571-313-8843, contact@sji.gov.

Jonathan D. Mattiello,
Executive Director.

[FR Doc. 2018-18681 Filed 8-28-18; 8:45 am]

BILLING CODE P